DEPARTMENT OF COMMERCE

Foreign-Trade Zones Board

[B-39-2013]

Foreign-Trade Zone (FTZ) 265—Conroe, Texas; Notification of Proposed Production Activity; Bauer Manufacturing Inc.; (Foundation Casings and Tools/Accessories for Pile Drivers and Boring Machinery); Conroe, Texas

The City of Conroe, Texas, grantee of FTZ 265, submitted a notification of proposed production activity to the FTZ Board on behalf of Bauer Manufacturing Inc. (Bauer), located in Conroe, Texas. The notification conforming to the requirements of the regulations of the FTZ Board (15 CFR 400.22) was received on April 18, 2013.

The Bauer facility is located within Site 1 of FTZ 265. The facility is used for the production of foundation casings and tools and accessories for pile drivers and boring machinery. Pursuant to 15 CFR 400.14(b), FTZ activity would be limited to the specific foreign-status materials and components and specific finished products described in the submitted notification (as described below) and subsequently authorized by the FTZ Board.

Production under FTZ procedures could exempt Bauer from customs duty payments on the foreign status components used in export production. On its domestic sales, Bauer would be able to choose the duty rates during customs entry procedures that apply to foundation casings and tools and accessories for pile drivers and boring machinery (free, 2.9%, 5.0%) for the foreign status inputs noted below. Customs duties also could possibly be deferred or reduced on foreign status production equipment.

Components and materials sourced from abroad include: plastic tubes/pipes/hoses, articles of rubber (joining bands, plates, sheets, strips, bands), paper sheets/dials/rolls, articles of steel (shapes; U, H and I beams; sections; sheets; fittings), and air compressors/pumps (duty rates range from free to 5.0%). The request indicates that all foreign steel products subject to an antidumping/countervailing duty (AD/CVD) order will be admitted to the zone in domestic (duty-paid) status (19 CFR § 146.43).

Public comment is invited from interested parties. Submissions shall be addressed to the FTZ Board's Executive Secretary at the address below. The closing period for their receipt is June 11, 2013.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: April 25, 2013.
Andrew McGilvray,
Executive Secretary.

[FR Doc. 2013-10410 Filed 5-1-13; 8:45 am]

BILLING CODE P